DEPARTMENT OF ENERGY

Federal Energy Regulatory Commission

Notice of Application Ready for Environmental Analysis and Soliciting Comments, Recommendations, Terms and Conditions, and Prescriptions, and Establishing Procedural Schedule for Relicensing

March 10, 2003.

Take notice that the following hydroelectric application has been filed with the Commission and is available for public inspection.

a. Type of Application: New Major License.

b. Project No.: 487-034.

c. Date Filed: September 25, 2002.

d. Applicant: PPL Holtwood, LLC.

e. Name of Project: Lake Wallenpaupack Hydroelectric Project.

f. Location: On Wallenpaupack Creek, in Wayne and Pike Counties, Pennsylvania.

g. Filed Pursuant to: Federal Power Act 16 U.S.C. §§ 791(a)-825(r).

h. Applicant Contact: Gary Petrewski, PPL Holtwood, LLC, Two North Ninth Street, Allentown, PA 18101-1179, gpetrewski@pplweb.com., (610) 774-5996.

i. FERC Contact: Patrick K. Murphy, patrick.murphy@ferc.gov, (202) 502-8755.

j. Deadline for filing comments, recommendations, terms and conditions, and prescriptions: 60 days from the issuance date of this notice.

All documents (original and eight copies) should be filed with: Magalie R. Salas, Secretary, Federal Energy Regulatory Commission, 888 First Street, NE., Washington, DC 20426. Requests for cooperating agency status may be filed electronically via the Internet in lieu of paper. The Commission strongly encourages electronic filings. See 18 CFR 385.2001(a)(1)(iii) and the instructions on the Commission's Web site under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. Description of the Project: The existing Lake Wallenpaupack Project consists of: (1) A dam, comprised of a gravity type concrete structure and earthen embankments, totaling about 1,300 feet long; (2) a 2.5-mile-long, 14-foot diameter steel pipeline, connecting to a surge tank, and two penstocks; (2) a 5,700-acre reservoir; (3) a powerhouse with a total installed capacity of 44 megawatts; and (4) appurtenant facilities. The applicant estimates that the average annual generation is 80,500 megawatt hours.

m. A copy of application is on file with the Commission and is available for public inspection. The application may be viewed on the web at http://www.ferc.gov using the “FERRIS” link. Enter the docket number, excluding the last three digits in the docket number field, to access the document. For assistance, please contact FERC Online Support at FERCOnlineSupport@ferc.gov or toll-free at (866) 208-3676, or TTY, contact (202) 502-8659. A copy is also available for inspection and reproduction at the address in item h above.

n. The Commission directs, pursuant to section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedural schedule: The application will be processed according to the following Hydro Licensing Schedule. Revisions to the schedule will be made as appropriate.

Notice of the availability of the draft EA—August 2003

Notice of the availability of the final EA—December 2003

Ready for Commission's decision on the application—January 2004

Magalie R. Salas,
Secretary.

[FR Doc. 03-6010 Filed 3-14-03; 8:45 am]

BILLING CODE 6717-01-P